DEPARTMENT OF COMMERCE

International Trade Administration

[A-274-804]

Carbon and Certain Alloy Steel Wire Rod from Trinidad & Tobago: Amended Notice of Court Decision Not In Harmony with Final Results of Antidumping Duty Administrative Review

AGENCY: Import Administration, International Trade Administration, Department of Commerce.

SUMMARY: On August 8, 2007, the United States Court of International Trade (“CIT”) affirmed the final remand results made by the Department of Commerce (“the Department”) pursuant to the CIT's remand of the final results of antidumping duty administrative review of the antidumping order on carbon and certain alloy steel wire rod from Trinidad & Tobago. See Mittal Steel Point Lisas Ltd. v. United States, Slip Op. 07-120, (Ct. Int'l Trade) (August 8, 2007). This case arises out of the Department's final results in the administrative review covering the period October 1, 2003, through September 30, 2004. See Notice of Final Results of Antidumping Duty Administrative Review: Carbon and Certain Alloy Steel Wire Rod from Trinidad and Tobago, 70 FR 69512 (November 16, 2005) (“Final Results”). The judgment in this case was not in harmony with the Department's Final Results. As a result of an inadvertent error, the version of this notice released on Wednesday, August 15, 2007, contained a typographical error to the recalculated margin for these final remand results. This amended notice corrects this error. Because this error was discovered prior to publication in the Federal Register, this amendment is being published in place of the original version released on August 15, 2007.

EFFECTIVE DATE: August 18, 2007.

FOR FURTHER INFORMATION CONTACT: Dennis McClure or Stephanie Moore, AD/CVD Operations, Office 3, Import Administration, International Trade Administration, U.S. Department of Commerce, 14th Street and Constitution Avenue, NW., Washington DC 20230; telephone: (202) 482-5973 or (202) 482-3692, respectively.

SUPPLEMENTARY INFORMATION: In Mittal Steel Point Lisas Ltd. v. United States, Slip Op. 07-60, (Ct. Int'l Trade) (April 24, 2007), the CIT remanded the underlying Final Results to the Department to re-examine its decision regarding its calculation of credit expenses and inventory costs used to calculate constructed export price, given the treatment of the date of invoice as the date of sale in this review.

On May 21, 2007, the Department released a draft of the final remand results to interested parties and requested that they submit comments by May 29, 2007. On May 25, 2007, respondent submitted comments. Petitioners did not submit comments. On June 15, 2007, the Department issued to the CIT its final remand results. In the final remand results the Department made a change to the credit expenses used in the constructed export price calculation. The Department also changed the inventory costs used in its constructed export calculation to reflect the date of invoice as the date of sale. Thus, the Department recalculated the antidumping duty rates applicable to applicable to Mittal Steel Point Lisas, Ltd. On August 8, 2007, the CIT sustained the Department's final remand results. The recalculated margin for these final remand results is 4.08 percent.

In its decision in Timken Co., v. United States, 893 F.2d 337, 341 (Fed. Cir. 1990) (“Timken”), the United States Court of Appeals for the Federal Circuit (“CAFC”) held that, pursuant to section 516A(e) of the Tariff Act of 1930, as amended (“the Act”), the Department must publish a notice of a court decision that is not “in harmony” with a Department determination, and must suspend liquidation of entries pending a “conclusive” court decision. The CIT's decision in this case on August 8, 2007, constitutes a decision of the court that is not in harmony with the Department's Final Results. This notice is published in fulfillment of the publication requirements of Timken. Accordingly, the Department will continue the suspension of liquidation of the subject merchandise pending the expiration of the period of appeal or, if appealed, pending a final and conclusive court decision. In the event the CIT's ruling is not appealed or, if appealed, upheld by the CAFC, the Department will instruct U.S. Customs and Border Protection to revise the cash deposit rate covering the subject merchandise.

This notice is issued and published in accordance with section 516A(c)(1) of the Act.

Dated: August 30, 2007.
David M. Spooner,
Assistant Secretary for Import Administration.

[FR Doc. E7-17701 Filed 9-6-07; 8:45 am]

BILLING CODE 3510-DS-S